DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Confidentiality of Alcohol and Drug Abuse Patient Records—(OMB No. 0930-0092, Extension, no change)—Statute (42 U.S.C. 290dd-2) and regulations (42 CFR Part 2) require Federally conducted, regulated, or directly or indirectly assisted alcohol and drug abuse programs to keep alcohol and drug abuse patient records confidential. Information requirements are (1) written disclosure to patients about Federal laws and regulations that protect the confidentiality of each patient, and (2) documenting “medical personnel” status of recipients of a disclosure to meet a medical emergency. The annual burden estimates for these requirements are summarized in the table below.

| Annual respondents | Responses per respondent | Burden per response (hours) | Annual burden hours
Disclosure 42 CFR 2.22 | 10,363 | 168 | .20 | 347,960
Recordkeeping 42 CFR 2.51 | 10,363 | 2 | .26 | 5,389
Total | 10,363 |  |  | 353,349

Written comments and recommendations concerning the proposed information collection should be sent by June 17, 2004 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: May 11, 2004.
Anna Marsh,
Executive Officer, SAMHSA.

[FR Doc. 04-11196 Filed 5-17-04; 8:45 am]

BILLING CODE 4162-20-P